DEPARTMENT OF THE INTERIOR

Bureau of Land Management

[UT-062-08-1220-PM]

Notice of Emergency Motorized Vehicle Closure and Restrictions for Specified Routes During the 2008 Moab Jeep Safari; Moab Field Office, UT

AGENCY: Bureau of Land Management, Interior.

ACTION: Notice of Emergency Motorized Vehicle Closure and Restrictions.

SUMMARY: This notice restricts motorized use on 10 popular public land vehicle routes used by the Moab Jeep Safari during the 2008 Moab Jeep Safari organized group event. The action is in effect for the 2008 Jeep Safari event which takes place during the nine day period from March 15 to March 23, 2008. The following two components of the action apply only to users of motorized vehicles. Exclusive Use: On seven of the routes (Behind the Rocks, Cliff Hanger, Gold Bar Rim, Golden Spike, Moab Rim, Poison Spider Mesa, and Pritchett Canyon), motorized users holding a Special Recreation Permit for such use from the Bureau of Land Management, including participants in the Moab Jeep Safari, are granted exclusive use of the route while a Jeep Safari trip is occurring. This action temporarily excludes non-permit holding motorized users from these routes. One Way Travel: On three of the routes (Hell's Revenge, Kane Creek Canyon and Steel Bender), the routes are open to general motorized travel by non-permitted users in one direction only for the entire nine day duration of the Moab Jeep Safari. The dates for the Moab Jeep Safari and the dates when the Jeep Safari plans use of a route are posted at the Moab Field Office and on the Moab Field Office's Internet site at the addresses provided below. They are also available upon request.

DATES: This notice is effective upon publication and shall remain in effect from March 15 through March 23, 2008, during the 2008 Moab Jeep Safari.

FOR FURTHER INFORMATION CONTACT: Russell von Koch, Recreation Branch Chief, BLM Moab Field Office, 82 East Dogwood Avenue, Moab, Utah 84532 or telephone 435-259-2100. Also see the Moab Field Office Internet site at: http://www.blm.gov/ut/st/en/fo/moab.html.

SUPPLEMENTARY INFORMATION: On January 23, 2008, the Decision Record authorizing permitted motorized use on a set of 30 routes (called “Jeep Safari Routes”) was signed. This permit authorizes the Redrock 4Wheelers to utilize the Jeep Safari Routes for an organized group event during an annual nine day period each spring (that traditionally includes Easter Sunday and the previous eight days) from 2008 through 2012. The Environmental Assessment analyzing these routes (EA # 060-2005-080) concluded that allowing permitted motorized users exclusive use of seven of the more popular routes listed in the above summary, and managing for one-way travel on the three additional routes listed in the above summary for the nine day period of the Moab Jeep Safari would mitigate environmental damage by lessening the amount of traffic concentrated on these narrow dirt routes. The annual nine day Jeep Safari period sees the most intense and concentrated motorized use of these routes; the resultant overcrowding of these routes leads to degradation of resources as routes widen with the congregation of vehicles along them.

Specifically, exclusive motorized use of seven of the more popular routes listed above, by permittees only, would prevent damage to wilderness, water quality, soils, visual resources and vegetation by reducing the amount of travel. In addition, restricting motorized use of these routes would lessen user conflict and provide for a more enjoyable experience during the annual Jeep Safari for those motorized users holding a Special Recreation Permit.

One way use of three routes listed above would reduce impacts to water quality, soils, visual resources, and vegetation by eliminating passing, which results in road widening along these narrow routes. In addition, one way travel mitigates crowding along these three routes; this lessens user conflict and provides for a more enjoyable experience for those motorized users holding a Special Recreation Permit.

Exclusive Use: To enact these restrictions, the following routes will be for the exclusive use of permitted motorized users on days that they are utilized by the Moab Jeep Safari while Safari participants are making use of the routes: Behind the Rocks, Cliff Hanger, Gold Bar Rim, Golden Spike, Moab Rim, Poison Spider Mesa, and Pritchett Canyon. This means that for the routes listed above, motorized users without a Special Recreation Permit authorizing use of these routes are excluded from using them as described above. Non-motorized users are not restricted.

One Way Travel: The following routes are restricted to one way travel for the entire nine days of the Moab Jeep Safari: Hell's Revenge, Kane Creek Canyon and Steelbender. For the Hell's Revenge route, motorized use must occur one-way from east to west, i.e., from the Sand Flats Recreation Area entrance booth west to the end of the route west of the Lion's Back Rock. This action is consistent with Grand County's travel management which allows the Lion's Back access to be used only as an exit for general recreational travel. For the Kane Creek Canyon route, motorized use must occur one-way from north to south, i.e., from the Hurrah Pass/Kane Creek junction south to the end of the route at U.S. Highway 191. For the Steelbender route, motorized use must occur one-way from north to south, i.e., from the Moab Golf Club area entry south to the southern end of the route near Flat Pass and Kens Lake. This restriction applies to all motorized users.

This action will be posted at the Moab BLM Field Office as well as on the Moab Field Office Web site at: http://www.blm.gov/ut/st/en/fo/moab.html. The restrictions will also be posted at each of the trailheads affected during the 2008 Jeep Safari. Enforcement actions will be taken as necessary in accordance with 43 CFR 8360.0-7 and 18 U.S.C 3571.

Exceptions

The use of motorized vehicles for emergency, official United States military, and law enforcement purposes, or for official duties, or as otherwise authorized by the Bureau of Land Management are exempt from these restrictions. Use of motorized wheelchairs is also exempt.

Authority: The authority to implement these restrictions on motorized vehicular use is found in 43 CFR 8364.1.

Dated: March 12, 2008.
Selma Sierra,
BLM Utah State Director.

[FR Doc. E8-5769 Filed 3-20-08; 8:45 am]

BILLING CODE 4310-DQ-P